DEPARTMENT OF ENERGY

[Docket No. EA-294-A]

Application To Export Electric Energy; TexMex Energy, LLC

AGENCY: Office of Fossil Energy, DOE.

ACTION: Notice of application.

SUMMARY: TexMex Energy, LLC (TexMex) has applied to renew its authorization to transmit electric energy from the United States to Mexico pursuant to section 202(e) of the Federal Power Act.

DATES: Comments, protests or requests to intervene must be submitted on or before November 15, 2006.

ADDRESSES: Comments, protests or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On August 25, 2004, the Department of Energy (DOE) issued Order No. EA-294 authorizing TexMex to transmit electric energy from the United States to Mexico for a two-year term. That authorization expired on August 25, 2006.

On September 8, 2006, TexMex filed an application with DOE for renewal of the export authority contained in Order No. EA-294. TexMex proposes to export electric energy to Mexico and to arrange for the delivery of those exports over the international transmission facilities presently owned by Central Power and Light Company, Sharyland Utilities, and Comision Federal de Electricidad, the national electric utility of Mexico.

In its application TexMex states, without further explanation, that it was unable to file its renewal application prior to the expiration of its current export authorization on August 25, 2006. TexMex requests that its renewal request be granted as soon as possible.

DOE notes that TexMex did not utilize its previous authority to export electricity to Mexico during the two-year term of Order No. EA-294, as verified by quarterly reports filed with DOE by TexMex and as stated in their current renewal application. TexMex's previous authorization permitted an application for renewal to be filed within six months prior to expiration of its authorization on August 25, 2006. Renewal applications must be filed at least sixty days prior to expiration in order to provide DOE with sufficient time to process an application and provide adequate opportunity for public comment.

TexMex has not demonstrated sufficient good cause for DOE to expedite the processing of its renewal application by the use of a shortened public comment period. Therefore, in this notice, DOE has retained the normal thirty-day public comment period for the filing of comments, protests, or petitions to intervene.

DOE notes that TexMex shall have no authority to export electricity to Mexico until the conclusion of this proceeding and the issuance of another order granting authority to export.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the TexMex application to export electric energy to Mexico should be clearly marked with Docket EA-294-A. Additional copies are to be filed directly with Guillermo Gonzalez G., c/o Protama S.A. de C.V., Tonala 44, Col. Roma, 06700 Mexico D.F., Mexico and Douglas F. John, John & Hengerer, 1200 12th Street, NW., Suite 600, Washington, DC 20036-3013.

A final decision will be made on this application after the environmental impacts have been evaluated pursuant to the National Environmental Policy Act of 1969 (NEPA), and a determination is made by the DOE on whether the proposed action would adversely impact on the reliability of the U.S. electric power supply system.

Copies of this application will be made available, upon request, for public inspection and copying at the address provided above or by accessing the program's Web site at http://www.oe.energy.gov/permitting/electricity_imports_exports.htm.

Issued in Washington, DC, on October 10, 2006.
Anthony J. Como,
Director, Permitting and Siting, Office of Electricity Delivery and Energy Reliability.

[FR Doc. E6-17094 Filed 10-13-06; 8:45 am]

BILLING CODE 6450-01-P